DEPARTMENT OF ENERGY

Federal Energy Regulatory Commission

18 CFR Part 35

[Docket No. RM00-2-000, Order No. 612]

Time Frame for Intervening in and Protesting Federal Power Act Section 205 Filings; Correction

April 3, 2000.

AGENCY: Federal Energy Regulatory Commission.

ACTION: Final rule; correction.

SUMMARY: The Federal Energy Regulation Commission (Commission) published in the Federal Register of December 28, 1999, a final rule amending its regulations to provide that, absent a notice providing some other time period, a twenty-one (21) calendar day time period from the date a Federal Power Act (FPA) Section 205 rate filing is filed, amended, or supplemented will be provided for interested parties to file any protest or intervention in the proceeding. Inadvertently, § 35.8(b) contained a typographical error. This document corrects that typographical error.

DATES: Effective on April 7, 2000.

FOR FURTHER INFORMATION CONTACT: Julia A. Lake, Attorney, Federal Energy Regulatory Commission, 888 First Street, NW, Washington, DC 20426; phone: 202-208-2019; e-mail:julia.lake@ferc.fed.us.

SUPPLEMENTARY INFORMATION: The Federal Energy Regulatory Commission (Commission) published in the Federal Register of December 28, 1999, a final rule amending its regulations to provide that, absent a notice providing some other time period, a twenty-one (21) calendar day time period time from the date a Federal Power Act (FPA) Section 205 rate filing is filed, amended, or supplemented will be provided for interested parties to file any protest or intervention in the proceeding. Inadvertently, § 35.8(d) contained a typographical error. This document corrects that typographical error.

In rule FR Doc. 99-33593, published on December 28, 1999 (64 FR 72535), make the following correction. On page 72537, in the second column, last paragraph, correct the word “§ 35.9” to read “§ 35.8”.

Dated: March 31, 2000.
Linwood A. Watson, Jr.,
Acting Secretary.

FR Doc. 00-8621 Filed 4-6-00; 8:45 am]

BILLING CODE 6717-01-M